DEPARTMENT OF COMMERCE

International Trade Administration

(A-533-824)

Certain Polyethylene Terephthalate Film, Sheet and Strip from India: Final Results of Antidumping Duty Administrative Review

AGENCY: Import Administration, International Trade Administration, Department of Commerce.

SUMMARY: On April 12, 2006, the Department of Commerce (the Department) published the preliminary results of the administrative review of the antidumping duty order on certain polyethylene terephthalate film, sheet and strip (PET film) from India. See Certain Polyethylene Terephthalate Film, Sheet and Strip from India: Preliminary Results and Rescission in Part of Antidumping Duty Administrative Review, 71 FR 18715 (April 12, 2006) (Preliminary Results). This review covers three producers/exporters of PET film, MTZ Polyfilms, Ltd. (MTZ), Jindal Poly Films Limited¹ (Jindal), and Polyplex Corporation Ltd. (Polyplex). The period of review (POR) is July 1, 2004, through June 30, 2005. Based on our analysis of the comments received, we made changes to the preliminary dumping margin calculation for one respondent, Jindal. The final weighted-average dumping margin for the reviewed firms are listed below in the section entitled “Final Results of Review.”

¹ Formerly Jindal Polyester Limited.

EFFECTIVE DATE: August 17, 2006.

FOR FURTHER INFORMATION CONTACT: Magd Zalok (MTZ), Drew Jackson (Polyplex), or Kavita Mohan (Jindal), AD/CVD Operations, Office 4, Import Administration, International Trade Administration, U.S. Department of Commerce, 14th Street and Constitution Avenue, NW, Washington, DC 20230, telephone: (202) 482-4162, (202) 482-4406, or (202) 482-3542, respectively.

SUPPLEMENTARY INFORMATION:

Background

On April 12, 2006, the Department published the Preliminary Results in the Federal Register and invited interested parties to comment on those results. In response to the Department's invitation to comment on the Preliminary Results of this review, Jindal, Polyplex, and MTZ filed case briefs with the Department on May 12, 2006. Petitioners² did not submit case briefs. No interested parties submitted rebuttal briefs.

² The petitioners are Dupont Teijin Films, Mitsubishi Polyester Film Of America, Toray Plastics (America), Inc., and SKC America, Inc.

Scope of the Order

For purposes of this order, the products covered are all gauges of raw, pretreated, or primed PET film, whether extruded or coextruded. Excluded are metallized films and other finished films that have had at least one of their surfaces modified by the application of a performance-enhancing resinous or inorganic layer of more than 0.00001 inches thick. Imports of PET film are currently classifiable in the Harmonized Tariff Schedule of the United States (HTSUS) under item number 3920.62.00.90. HTSUS subheadings are provided for convenience and customs purposes. The written description of the scope of this order is dispositive.

Analysis of Comments Received

The issues raised in the case briefs are addressed in the Issues and Decision Memorandum to David M. Spooner, Assistant Secretary for Import Administration, from Stephen J. Claeys, Deputy Assistant Secretary for Import Administration, dated concurrently herewith (the Decision Memorandum), which is adopted herein, by reference. Attached, as an appendix to this notice, is a list of the comments the Department received from interested parties, all of which are discussed in the Decision Memorandum. The Decision Memorandum is on file in the Central Record Unit, Room B-099 of the Herbert C. Hoover Building, and may be accessed on the Web at http://ia.ita.doc.gov/frn/index.html.

Changes Since the Preliminary Results

Based on our analysis of comments received, we made the following changes in the comparison and margin calculation programs for Jindal. For a full discussion of these changes, see the Decision Memorandum and the memorandum to the File from Kavita Mohan, International Trade Analyst, concerning “Analysis Memorandum for Jindal Poly Films Limited,” dated concurrently with this notice.

Jindal

1. We converted domestic inventory carrying costs into U.S. dollars.

2. We calculated importer-specific assessment rates.

Final Results of Review

As a result of this review, we determine that the following weighted-average dumping margins exist for the period July 1, 2004, through June 30, 2005:

Manufacturer/Exporter | Margin (percent)
Jindal Poly Films Limited | 2.32
MTZ Polyfilms, Ltd | 0.00
Polyplex Corporation Ltd. | 0.01

Assessment

The Department has determined, and U.S. Customs and Border Protection (CBP) shall assess, antidumping duties on all appropriate entries, pursuant to 19 CFR § 351.212(b). The Department calculated importer-specific duty assessment rates on the basis of the ratio of the total amount of antidumping duties calculated for the examined sales to an importer to the total entered value of the examined sales to that importer. Where the importer-specific assessment rate is above de minimis (i.e., 0.50 percent ad valorem or greater), the Department will instruct CBP to assess the importer-specific rate uniformly on the entered value of all entries of subject merchandise by that importer. See 19 § CFR 351.106(c)(2). The Department will issue appropriate assessment instructions directly to CBP within 15 days of publication of the final results of review.

The Department clarified its “automatic assessment” regulation on May 6, 2003 (68 FR 23954). This clarification will apply to entries of subject merchandise during the period of review produced by companies included in these final results of review for which the reviewed companies did not know their merchandise was destined for the United States. In such instances, we will instruct CBP to liquidate unreviewed entries at the all-others rate if there is no rate for the intermediate company involved in the transaction. For a full discussion of this clarification, see Antidumping and Countervailing Duty Proceedings: Assessment of Antidumping Duties, 68 FR 23954 (May 6, 2003).

Cash Deposits

The following cash deposit requirements will be effective upon publication of the final results of this administrative review for all shipments of the subject merchandise entered, or withdrawn from warehouse, for consumption on or after the publication date of the final results of this administrative review, as provided by section 751(a)(1) of the Tariff Act of 1930, as amended (the Act). In the instant matter: (1) the cash deposit rate for Jindal will be the rate shown above; (2) since the dumping margins for MTZ and Polyplex are de minimis, no cash deposit will be required for MTZ or Polyplex; (3) for previously investigated or reviewed companies not listed above, the cash deposit rate will continue to be the company-specific rate published for the most recent period; (4) if the exporter is not a firm covered in this review, a prior review, or the less-than-fair-value (LTFV) investigation, but the manufacturer is, the cash deposit rate will be the rate established for the most recent period for the manufacturer of the subject merchandise; and (5) if neither the exporter nor the manufacturer is a firm covered by any segment of this proceeding, the cash deposit rate will continue to be 5.71 percent, which is the “all others” rate established in the LTFV investigation (24.14 percent), adjusted for the export subsidy rate found in the companion countervailing duty investigation. These cash deposit rates, when imposed, shall remain in effect until publication of the final results of the next administrative review. See section 751(a)(2)(C) of the Act.

Notification to Parties

This notice serves as a final reminder to importers of their responsibility under 19 CFR § 351.402(f)(2) to file a certificate regarding the reimbursement of antidumping and countervailing duties prior to liquidation of the relevant entries during this review period. Failure to comply with this requirement could result in the Secretary's presumption that reimbursement of the antidumping duties occurred and the concomitant assessment of double antidumping duties. This notice is also the only reminder to parties subject to the administrative protective order (APO) of their responsibility concerning the return or destruction of proprietary information disclosed under APO in accordance with 19 CFR § 351.305. Timely written notification of the return/destruction of APO materials or conversion to judicial protective order is hereby requested. Failure to comply with the regulations and the terms of an APO is a sanctionable violation.

The Department is publishing this notice in accordance with sections 751(a)(1) and 777(i)(1) of the Act.

Dated: August 10, 2006.
Joseph A. Spetrini,
Acting Assistant Secretary for Import Administration.

Appendix

Comment 1: Whether the Department Erroneously Employed Its Practice of Zeroing Negative Margins

Comment 2: Whether the Department Made a Currency Conversion Error in Calculating Jindal's Dumping Margin

Comment 3: Whether the Department Should Continue to Require MTZ to Submit Sales Data From the Window Periods Extending Beyond the Period of Review

Comment 4: Whether it is Necessary to Distinguish Between MTZ's Sales of Prime and Non-prime Merchandise in Calculating Normal Value

Comment 5: Whether the Department Should Adjust Polyplex's U.S. Prices for Duty Drawback

Comment 6: Whether the Department Should Have Compared PET Film Based on the Specific Thickness of the Film Rather Than Thickness Ranges

[FR Doc. E6-13592 Filed 8-16-06; 8:45 am]

BILLING CODE 3510-DS-S